DEPARTMENT OF THE INTERIOR

U.S. Geological Survey

[GX16EN05ESB0500]

Opening of Nomination Period for Members of the Advisory Committee on Climate Change and Natural Resource Science

AGENCY: U.S. Geological Survey, Department of the Interior.

ACTION: Notice of opening of nomination period.

SUMMARY: The Department of the Interior is inviting nominations for membership on the Advisory Committee on Climate Change and Natural Resource Science. This Federal Register Notice opens the nomination period from the date of publication until January 15, 2016

DATES: Written nominations must be received by January 15, 2016.

ADDRESSES: Send nominations to: Robin O'Malley, National Climate Change and Wildlife Science Center, U.S. Geological Survey, 12201 Sunrise Valley Drive, Mail Stop 516, Reston, VA 20192, nccwsc@usgs.gov.

FOR FURTHER INFORMATION CONTACT: Mr. Robin O'Malley, Designated Federal Officer for ACCCNRS, Policy and Partnership Coordinator, National Climate Change and Wildlife Science Center, U.S. Geological Survey, 12201 Sunrise Valley Drive, Mail Stop 516, Reston, VA 20192, romalley@usgs.gov, (703) 648-4086.

SUPPLEMENTARY INFORMATION: The Advisory Committee on Climate Change and Natural Resource Science (ACCCNRS) was chartered in 2013. Twenty-five members were appointed to the committee to provide advice on matters and actions relating to the operations of the U.S. Geological Survey National Climate Change and Wildlife Science Center and the Department of the Interior (DOI) Climate Science Centers. The ACCCNRS Charter can be found at: https://nccwsc.usgs.gov/acccnrs.

In May 2016, membership terms for several committee members will expire, creating approximately 12 membership openings. The Department of the Interior is inviting nominations for individuals to be considered for these membership openings. Only nominations in response to this notice will be considered. Existing ACCCNRS members, whose terms are expiring, must be re-nominated during this open nomination period to be considered. Self-nominations will be accepted. Nominations should include a resume that describes the nominee's qualifications in enough detail to enable us to make an informed decision regarding meeting the membership requirements of the Committee and to contact a potential member. Additional information will be requested from those selected for final review before appointment. Members selected for appointment may identify an alternate who can participate in their stead; names of proposed alternates need not be submitted at this time.

The Department of the Interior is soliciting members for ACCCNRS to represent the following interests: (1) State and local governments, including state membership entities; (2) Nongovernmental organizations, including those whose primary mission is professional and scientific and those whose primary mission is conservation and related scientific and advocacy activities; (3) American Indian tribes and other Native American entities; (4) Academia; (5) Landowners, businesses, and organizations representing landowners or businesses.

In 2016 and later, the Committee will meet approximately 2 times annually, and at such times as designated by the DFO. The Secretary of the Interior will appoint members to the Committee. Members appointed as special Government employees are required to file on an annual basis a confidential financial disclosure report. No individual who is currently registered as a Federal lobbyist is eligible to serve as a member of the Committee.

Privacy Statement

This activity is subject to the Privacy Act of 1974 and the Federal Advisory Committee Act (FACA) of 1972 (Public Law 92-463 Sec. 1, Oct. 6, 1972, 86 Stat. 770.)

Authority: 42 U.S.C. 2000E-16.

Principal Purpose: Information is collected for the purpose of vetting nominees and evaluating qualifications for appointments to the Federal Advisory on Climate Change and Natural Resource Science (ACCCNRS.)

Routine Use: Personally identifiable information will be collected by secure fax, phone, or U.S. mail, will be kept in a secure location, and purged from files at the conclusion of the vetting process. Selection of committee members is made based on the FACA's requirements and the potential member's background and qualifications. Final selection is made by the president or heads of departments or agencies.

Disclosure Is Voluntary: If the individual does not furnish the information requested, there will be no adverse consequences. However, failure to furnish information requested will prevent appointment to ACCCNRS.

Robin O'Malley,
Designated Federal Officer, Policy and Partnership Coordinator, National Climate Change and Wildlife Science Center.

[FR Doc. 2015-26432 Filed 10-16-15; 8:45 am]

BILLING CODE 4338-11-P